COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds products and services to the Procurement List that will be furnished by nonprofit agencies employing persons who are blind or have other severe disabilities.

DATES: Effective Date: 8/8/2011.

ADDRESS: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail CMTEFedReg@AbilityOne.gov.

SUPPLEMENTARY INFORMATION:

Additions

On 4/29/2011 (76 FR 23998); 5/6/2011 (76 FR 26279); and 5/13/2011 (76 FR 28000-28001), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

NSN: 7530-00-NIB-1028—Dated 18-Month Paper Wall Planner, 24″ x 37″.

NSN: 7530-00-NIB-1029—Dated 12-Month 2-Sided Laminated Wall Planner, 24″ x 37″.

NPA: The Chicago Lighthouse for People Who Are Blind or Visually Impaired, Chicago, IL.

Contracting Activity: General Services Administration, Household and Industrial Furniture, Arlington, VA.

Coverage: A-List for the Total Government Requirement as aggregated by the General Services Administration.

Services

Service Type/Location: Custodial Service, USDA APHIS—Plant Protection and Quarantine, & Veterinary Services, 8100 NW. 15th Place, Gainesville, FL.

NPA: The Arc of Bradford County, Starke, FL.

Contracting Activity: Dept. of Agriculture, Animal and Plant Health Inspection Service, Minneapolis, MN.

Service Type/Location: Custodial and Grounds Services, White Sands Missile Range, NM.

NPA: Tresco, Inc., Las Cruces, NM.

Contracting Activity: Dept. of the Army, W6QM White Sands DOC, White Sands Missile Range, NM.

Service Type/Location: Janitorial/Custodial Service, San Francisco Maritime National Historical Park, Building E, Lower Fort Mason, San Francisco, CA.

NPA: Toolworks, Inc., San Francisco, CA.

Contracting Activity: Dept. of the Interior, National Park Service, Pacific West Region, Oakland, CA.

Service Type/Locations: Janitorial Services, Mustang Armed Force Reserve Center (AFRC), Mustang, OK. Norman Armed Force Reserve Center (AFRC), Norman, OK.

NPA: Dale Rogers Training Center, Inc., Oklahoma City, OK.

Contracting Activity: Dept. of the Army, W7NV USPFO Activity OK ARNG, Oklahoma City, OK.

Barry S. Lineback,
Director, Business Operations.

[FR Doc. 2011-17147 Filed 7-7-11; 8:45 am]

BILLING CODE 6353-01-P